DEPARTMENT OF TRANSPORTATION

Federal Aviation Administration

14 CFR Part 39

[Docket No. FAA-2015-5193; Directorate Identifier 2015-NE-35-AD]

RIN 2120-AA64

Airworthiness Directives; Technify Motors GmbH Reciprocating Engines

AGENCY: Federal Aviation Administration (FAA), DOT.

ACTION: Notice of proposed rulemaking (NPRM).

SUMMARY: We propose to adopt a new airworthiness directive (AD) for certain Technify Motors GmbH (type certificate previously held by Thielert Aircraft Engines GmbH) TAE 125-02-99 and TAE 125-02-114 reciprocating engines. This proposed AD was prompted by reports of in-flight shutdowns (IFSDs) on TAE 125-02 engines. This proposed AD would require removal of affected fuel feed pumps. We are proposing this AD to prevent failure of the fuel feed pump, which could result in damage to the engine and damage to the airplane.

DATES: We must receive comments on this proposed AD by March 4, 2016.

ADDRESSES: You may send comments by any of the following methods:

• Federal eRulemaking Portal: Go to http://www.regulations.gov. Follow the instructions for submitting comments.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this proposed AD, contact Technify Motors GmbH, Platanenstrasse 14, D-09356 Sankt Egidien, Germany, phone: +49-37204-696-0; fax: +49-37204-696-2912; email: support@continentaldiesel.de. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2015-5193; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: Philip Haberlen, Aerospace Engineer, Engine Certification Office, FAA, Engine & Propeller Directorate, 12 New England Executive Park, Burlington, MA 01803; phone: 781-238-7770; fax: 781-238-7199; email: philip.haberlen@faa.gov.

SUPPLEMENTARY INFORMATION:

Comments Invited

We invite you to send any written relevant data, views, or arguments about this proposed AD. Send your comments to an address listed under the ADDRESSES section. Include “Docket No. FAA-2015-5193; Directorate Identifier 2015-NE-35-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD.

Discussion

The European Aviation Safety Agency (EASA), which is the Technical Agent for the Member States of the European Community, has issued EASA AD 2015-0189, dated September 21, 2015 (referred to hereinafter as “the MCAI”), to correct an unsafe condition for the specified products. The MCAI states:

In-flight shut down occurrences have been reported on aeroplanes equipped with TAE 125-02 engines. The initial results of the investigations showed that a defective fuel feed pump was the probable cause of the engine failure.

You may obtain further information by examining the MCAI in the AD docket on the Internet at http://www.regulations.gov by searching for and locating Docket No. FAA-2015-5193.

Related Service Information

Technify Motors GmbH has issued Operation & Maintenance Manual, CD-135/CD-155, OM-02-02, Issue 4, Revision No. 5, dated September 18, 2015. The service information describes procedures for removing and replacing the fuel feed pump.

FAA's Determination and Requirements of This Proposed AD

This product has been approved by the aviation authority of Germany, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require removal of affected fuel feed pumps.

Costs of Compliance

We estimate that this proposed AD affects 190 engines installed on airplanes of U.S. registry. We also estimate that it would take about 0.5 hours per engine to comply with this proposed AD. The average labor rate is $85 per hour. Pro-rated cost of life limit reduction would be about $160 per part. Based on these figures, we estimate the cost of the proposed AD on U.S. operators to be $38,475.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Technify Motors GmbH (Type Certificate previously held by Thielert Aircraft Engines GmbH): Docket No. FAA-2015-5193; Directorate Identifier 2015-NE-35-AD.

(a) Comments Due Date

We must receive comments by March 4, 2016.

(b) Affected ADs

None.

(c) Applicability

This AD applies to all Technify Motors GmbH (type certificate previously held by Thielert Aircraft Engines GmbH) TAE 125-02-99 and TAE 125-02-114 reciprocating engines with a fuel feed pump, part number (P/N) 05-7312-K0073xx, or P/N 05-7312-K0133xx, where “xx” can be any number, installed.

(d) Reason

This AD was prompted by reports of in-flight shutdowns (IFSDs) on TAE 125-02 engines. We are issuing this AD to prevent failure of the fuel feed pump, which could result in damage to the engine and damage to the airplane.

(e) Actions and Compliance

Comply with this AD within the compliance times specified, unless already done. Remove from service each affected fuel feed pump before it exceeds 600 operating hours (OH) time in service (TIS) or within 110 OH after the effective date of this AD, whichever occurs later.

(f) Installation Prohibition

After the effective date of this AD, do not install onto any engine, any fuel feed pump, P/N 05-7312-K0073xx or P/N 05-7312-K0133xx, where “xx” can be any number, if the fuel feed pump has 600 hours or more TIS. If TIS of a fuel feed pump is unknown or has exceeded 600 hours TIS, then the fuel feed pump is not eligible for installation. Rebuilt, overhauled, or repaired fuel feed pumps and/or fuel feed pumps that lack a serial number, are not eligible for installation.

(g) Alternative Methods of Compliance (AMOCs)

The Manager, Engine Certification Office, FAA, may approve AMOCs for this AD. Use the procedures found in 14 CFR 39.19 to make your request. You may email your request to: ANE-AD-AMOC@faa.gov.

(h) Related Information

(1) For more information about this AD, contact Philip Haberlen, Aerospace Engineer, Engine Certification Office, FAA, Engine & Propeller Directorate, 12 New England Executive Park, Burlington, MA 01803; phone: 781-238-7770; fax: 781-238-7199; email: philip.haberlen@faa.gov.

(2) Refer to MCAI European Aviation Safety Agency AD 2015-0189, dated September 21, 2015, for more information. You may examine the MCAI in the AD docket on the Internet at http://www.regulations.gov by searching for and locating it in Docket No. FAA-2015-5193.

(3) For service information identified in this proposed AD, contact Technify Motors GmbH, Platanenstrasse 14, D-09356 Sankt Egidien, Germany; phone: +49-37204-696-0; fax: +49-37204-696-2912; email: support@continentaldiesel.de.

(4) You may view this service information at the FAA, Engine & Propeller Directorate, 12 New England Executive Park, Burlington, MA. For information on the availability of this material at the FAA, call 781-238-7125.

Issued in Burlington, Massachusetts, on December 18, 2015.
Ann C. Mollica,
Acting Directorate Manager, Engine & Propeller Directorate, Aircraft Certification Service.

[FR Doc. 2015-32962 Filed 12-31-15; 8:45 am]

BILLING CODE 4910-13-P